DEPARTMENT OF HEALTH AND HUMAN SERVICES

Centers for Disease Control and Prevention

[30DAY-40-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Projects

1. Evaluation of Effectiveness of Worker Notifications Conducted by NIOSH—(New)—The National Institute for Occupational Safety and Health (NIOSH), Centers for Disease Control and Prevention (CDC) has conducted worker notification formally since 1988. This program informs workers in NIOSH-conducted epidemiological studies about the study results and hence, of their risks. NIOSH worker notification officers conducted a two-task evaluation project approved by OMB in 1993. Task 1 of the project evaluated the long-term impact of a high risk worker notification, and Task 2 evaluated the short-term impact and effectiveness of the notification materials themselves, with the goal of developing a monitoring instrument for routine use. A monitoring instrument was developed for routine use to evaluate effectiveness of ongoing worker notification activities. This instrument was refined over three field trials, involving a random sample set of 25 notified workers in each trial. A second instrument for use with other stakeholders (company and union officials) in the notifications also was developed. The design of these evaluation projects was descriptive in nature, gathering information from small groups of workers, for the purpose of learning how to improve the NIOSH worker notification program.

Having completed the data collection and final report for Task 2 of the evaluation project, we now are seeking approval to use the program monitoring worker survey instrument on a routine basis to assess effectiveness of ongoing letter notifications conducted by NIOSH notification officers. As with the design of the three trials in Task 2, ongoing routine assessment would include for each letter-type notification, our contacting by telephone a random sample of 250 workers who received notification letters and related materials, and at least one company representative and one union representative (where appropriate). A 15-minute telephone survey would be administered to the notified workers, and an up to 30 minute interview would be conducted with the other stakeholders (e.g., company and union representatives). The total annual cost to respondents for the study is $1,293.50. The total annualized burden hours for this project is 82.5 hours.

Respondent | Number of respondents | Number of responses/respondents | Avg. burden per response (hours) | Total burden (in hours)
Workers | 250 | 1 | 15/60 | 62.5
Stakeholder | 40 | 1 | 30/60 | 20.0
Total | 290 |  |  | 82.5

Dated: May 24, 2000.
Nancy Cheal,
Acting Associate Director for Policy, Planning and Evaluation, Centers for Disease Control and Prevention (CDC).

[FR Doc. 00-13505 Filed 5-30-00; 8:45 am]

BILLING CODE 4163-18-P